DEPARTMENT OF LABOR

Employment and Training Administration

Proposed Collection; Comment Request

ACTION: Notice.

SUMMARY: The Department of Labor (DOL), as part of its continuing effort to reduce paperwork and respondent burden conducts a pre-clearance consultation program to provide the general public and Federal agencies with an opportunity to comment on proposed and/or continuing collections of information in accordance with the Paperwork Reduction Act of 1995 (PRA95) [44 U.S.C. 3506(c)(2)(A)]. This program helps to insure that requested data can be provided in the desired format; reporting burden (time and financial resources) is minimized; collection instruments are clearly understood; and the impact of collection on respondents can be properly assessed. Currently, the Employment and Training Administration (ETA) is soliciting comments concerning the proposed extension of the collection of administrative and survey data on the Growing America Through Entrepreneurship project 1205-0444, expires December 31, 2006). A copy of the proposed information collection request (ICR) can be obtained by contacting the office listed below in the address section of this notice or at this Web site: http://www.doleta.gov/Performance/guidance/OMBControlNumber.cfm.

DATES: Written comments must be submitted to the office listed in the addressee section below on or before October 16, 2006.

ADDRESSES: Jonathan Simonetta, Office of Policy Development and Research, Employment and Training Administration, U.S. Department of Labor, Room N-5637, 200 Constitution Avenue, NW., Washington, DC 20210, (202) 693-3911 (this is not a toll-free number); fax: 202-693-2766 (this is not a toll-free number), or e-mail Simonetta.Jonathan@dol.gov.

SUPPLEMENTARY INFORMATION:

I. Background

Many individuals have the motivation and skills to develop small businesses but lack business expertise and/or access to financing. Recognizing this untapped potential, ETA is teaming with the Small Business Administration (SBA) to create a demonstration program designed to assist individuals interested in self-employment to develop their businesses—Project GATE (Growing America Through Entrepreneurship). In helping people develop businesses, Project GATE promotes both workforce and economic development. The effectiveness of the program is being evaluated.

Entrepreneurial services provided by Project GATE include an assessment, a structured training course, and technical assistance provided by a trained counselor. As part of the technical assistance, counselors assist individuals in need of financing to apply for loans from SBA's Microloan program and other funding sources. DOL's One-Stop Centers conduct Project GATE orientations where interested individuals will be informed about the services available at the One-Stop Center, the benefits and challenges of self-employment and the services offered through Project GATE. Small Business Development Center (SBDC) counselors conduct individual assessments and identify the most appropriate training course for each Project GATE participant. Existing entrepreneurial training providers in the community provide training and technical assistance.

DOL's One-Stop Centers play a central role in recruiting for the project. Interested individuals register for an orientation to Project GATE at One-Stop Centers as well as via telephone, mail, or a Web site. The orientations are held at the One-Stop Centers.

Eligibility for Project GATE is broad—it is designed to serve almost anyone interested in starting a business. Special attention is paid, however, to recruiting immigrant populations.

Project GATE is being evaluated using an experimental design. Individuals who submit an application for Project GATE in each site and who meet minimal eligibility criteria are randomly assigned to either a program group or a control group. Members of the program group are eligible to receive Project GATE services, while members of the control group are not eligible to receive Project GATE services, although they are not prohibited from receiving self-employment services from other sources.

GATE is implemented in seven sites-three urban and four rural sites. The three urban sites are in Philadelphia, Pennsylvania; Pittsburgh, Pennsylvania; and Minneapolis-St. Paul, Minnesota. The rural sites are one in Minnesota centered around Duluth, and three in Maine centered around Portland, Bangor, and Lewiston.

The evaluation addresses three key questions:

1. Is Project GATE Viable? What are the challenges in implementing the program? Does an interagency model for the program work? Who participates in GATE? Is the outreach effective in reaching immigrants? How does the implementation of the program vary across sites?

2. Does the Program Work? Does the program increase self-employment, increase employment and earnings, and reduce the receipt of unemployment insurance and public assistance? Does the program promote employment and other economic development? Is it effective in both rural and urban areas? Does the effectiveness of the program vary by population subgroup?

Is the Program Cost-Effective? Do the benefits of the program exceed its costs? Addressing these questions involve conducting process, impact, and benefit-cost analyses. The process evaluation is based on information collected during three rounds of visits to each site, during which detailed information is collected on the implementation of the program from interviews with program staff, observations of services, and focus groups with program participants. Data also is collected using a Participant Tracking System developed specifically for the study. The impact evaluation involves comparing outcomes of members of the program group with outcomes of members of the control group. Data on these outcomes is collected from Unemployment Insurance (UI) benefit records and quarterly wage records, and two follow-up surveys that occur approximately 6 months and 18 months after random assignment. The benefit-cost analysis involves placing a dollar value on all impacts of the program and comparing them with the dollar value of the costs.

II. Review Focus

The Department of Labor is particularly interested in comments which:

• Evaluate whether the proposed collection of information is necessary for the proper performance of the functions of ETA, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

This is a notice to extend the collection period that is currently approved by OMB (1205-0444 expires December 31, 2006).

The data for the impact analysis comes from UI benefits and wage records in the three states, a computer-based Participant Tracking System developed for the demonstration and used in the seven sites, and follow-up surveys conducted twice with the expected sample of 4,000 individuals who apply for Project GATE. The follow-up surveys, which are the subject of this notice, are conducted by telephone approximately 6 and 18 months following the GATE application. These voluntary surveys collect data unavailable from administrative records. The first survey is designed to collect detailed information about sample members' participation and experiences in receiving self-employment services, their experiences starting a business, their experiences in jobs working for someone else, their receipt of public assistance, and some background data on their socio-economic and demographic characteristics. The second survey is designed to collect their experiences in self-employment and developing small businesses, their experiences in jobs working for someone else, and their income and receipt of public assistance.

Type of Review: Extension of a currently approved collection.

Agency: Employment and Training Administration.

Title: Partnership for Self-Sufficiency: Growing America Through Entrepreneurship (GATE).

OMB Number: 1205-0444.

Affected Public: Individuals of households.

Total Respondents: 400.

Estimated Total Burden Hours: 267.

| Total respondents | Frequency | Total responses | Average time per response (minutes) | Burden (hours)
GATE 18-month follow-up survey (in 2007) | 400 | Once | 400 | 40 | 267
Totals | 400 | Once | 400 | 40 | 267

Total Burden Cost (capital/startup): $0.

Total Burden Cost(operating/maintaining): $0.

Comments submitted in response to this comment request will be summarized and/or included in the request for Office of Management and Budget approval of the information request; they will also become a matter of public record.

Dated: August 11, 2006.
Maria K. Flynn,
Administrator, Office of Policy Development and Research.

[FR Doc. E6-13566 Filed 8-16-06; 8:45 am]

BILLING CODE 4510-30-P